DEPARTMENT OF HOUSING AND URBAN DEVELOPMENT

[Docket No. FR-5550-D-09]

Order of Succession for HUD Region VI

AGENCY: Office of Field Policy and Management, HUD.

ACTION: Notice of Order of Succession.

SUMMARY: In this notice, the Assistant Deputy Secretary for Field Policy and Management, Department of Housing and Urban Development, designates the Order of Succession for the Fort Worth Regional Office and its Field Offices (Region VI). This Order of Succession supersedes all previous Orders of Succession for HUD Region VI.

DATES: Effective Date: October 9, 2012.

FOR FURTHER INFORMATION CONTACT: Lawrence D. Reynolds, Assistant General Counsel, Administrative Law Division, U.S. Department of Housing and Urban Development, 451 7th Street, SW., Room 9262, Washington, DC 20410-0500, telephone number 202-402-3502 (this is not a toll-free number). This number may be accessed through TTY by calling the toll-free Federal Relay Service at 800-877-8339.

SUPPLEMENTARY INFORMATION: The Assistant Deputy Secretary, for Field Policy and Management, Department of Housing and Urban Development, is issuing this Order of Succession of officials authorized to perform the functions and duties of the Fort Worth Regional Office and its Field Offices when by reason of absence, disability, or vacancy in office the Regional Administrator or Field Office Directors are not available to exercise the powers or perform the duties of their Office. This Order of Succession is subject to the provisions of the Federal Vacancies Reform Act of 1998 (5 U.S.C. 3345-3349d). This publication supersedes all previous Orders of Succession for Region VI.

Accordingly, the Assistant Deputy Secretary for Field Policy and Management designates the following Order of Succession:

Section A. Order of Succession

Subject to the provisions of the Federal Vacancies Reform Act of 1998, during any period when by reason of absence, disability, or vacancy in office the Regional Administrator for the Department of Housing and Urban Development or the Field Office Directors are not available to exercise the powers or perform the duties of their Office, the following officials within each Office are hereby designated to exercise the powers and perform the duties of the Office:

1. Fort Worth Regional Office Order of Succession

a. Deputy Regional Administrator;

b. Regional Counsel;

c. Regional Director, Public and Indian Housing;

d. Director, Multifamily Housing HUB.

2. Albuquerque Field Office Order of Succession

a. Senior Management Analyst, Field Policy and Management;

b. Director, Community Planning and Development.

3. Houston Field Office Order of Succession

a. Associate Regional Counsel, Housing Finance and Programs;

b. Program Center Director, Multifamily Housing;

c. Program Center Director, Community Planning and Development.

4. Little Rock Field Office Order of Succession

a. Associate Regional Counsel, Housing Finance and Programs;

b. Director, Community Planning and Development.

5. Lubbock Field Office Order of Succession

a. Senior Management Analyst, Field Policy and Management.

6. New Orleans Field Office Order of Succession

a. Associate Regional Counsel, Housing Finance and Programs;

b. Director, Community Planning and Development.

7. Oklahoma City Field Office Order of Succession

a. Associate Regional Counsel, Housing Finance and Programs;

b. Senior Management Analyst, Field Policy and Management.

8. San Antonio Field Office Order of Succession

a. Associate Regional Counsel, Housing Finance and Programs;

b. Director, Public and Indian Housing.

9. Shreveport Field Office Order of Succession

a. Management Analyst, Field Policy and Management;

b. Supervisory Housing Program Specialist, Single Family Housing.

10. Tulsa Field Office Order of Succession

a. Management Analyst, Field Policy and Management;

b. Supervisory Housing Program Specialist, Single Family Housing.

These officials shall perform the functions and duties of the office in the order specified herein, and no official shall serve unless all the other officials whose position titles precede his/hers in this order are unable to act by reason of absence, disability, or vacancy in office.

Section B. Authority Superseded

This Order of Succession supersedes all previous Orders of Succession for Region VI.

Authority: Section 7(d), Department of Housing and Urban Development Act, 42 U.S.C. 3535(d).

Dated: October 9, 2012.
Patricia A. Hoban-Moore,
Assistant Deputy Secretary.

[FR Doc. 2012-25717 Filed 10-18-12; 8:45 am]

BILLING CODE 4210-67-P